ENVIRONMENTAL PROTECTION AGENCY

[FRL-9525-1]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et. seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or email at westlund.rick@epa.gov and please refer to the appropriate EPA Information Collection Request (ICR) Number.

SUPPLEMENTARY INFORMATION:

OMB Responses to Agency Clearance Requests

OMB Approvals

EPA ICR Number 1613.04; Data Reporting Requirements for State and Local Vehicle Emission Inspection and Maintenance (I/M) Programs (Renewal); 40 CFR part 51 subpart S; was approved on 11/02/2012; OMB Number 2060-0252; expires on 11/30/2015; Approved without change.

EPA ICR Number 1292.09; Enforcement Policy Regarding the Sale and Use of Aftermarket Catalytic Converters (Renewal); was approved on 11/05/2012; OMB Number 2060-0135; expires on 11/30/2015; Approved without change.

EPA ICR Number 0575.13; Health and Safety Data Reporting; Submission of Lists and Copies of Health and Safety Studies; 40 CFR part 716; was approved on 11/21/2012; OMB Number 2070-0004; expires on 11/30/2015; Approved with change.

Short Term Extension of Expiration Date

EPA ICR Number 2288.05; Pesticides Data Call In Program; a short term extension of the expiration date was granted by OMB on 11/21/2012; OMB Number 2070-0174; expires on 12/31/2012.

John Moses,
Director, Collections Strategies Division.

[FR Doc. 2012-29946 Filed 12-11-12; 8:45 am]

BILLING CODE 6560-50-P